AGENCY FOR INTERNATIONAL DEVELOPMENT

Board for International Food and Agricultural Development; Notice of Meeting

Pursuant to the Federal Advisory Committee Act, notice is hereby given of the public meeting of the Board for International Food and Agricultural Development (BIFAD). The meeting will be held from 9 a.m. to 12 p.m. CDT on Tuesday, October 16, 2018, at the Downtown Des Moines Marriott Hotel, Davenport and Dubuque Rooms, 700 Grand Avenue, Des Moines Iowa 50309. Participants may attend in person or join via livestream. The link to the global livestream as well as registration information can be found on BIFAD's home page and online at http://www.aplu.org/projects-and-initiatives/international-programs/bifad/bifad-meetings.html.

The central theme of this public meeting will be “Improving Nutrition through Private Sector Engagement Across Food Systems” and will explore how private sector engagement and market system linkages across the food system can help to advance nutrition outcomes. The meeting will help to identify opportunities and challenges for the public and private sectors to work together at different points in the food system to improve the demand, availability, accessibility, and affordability of high-quality diets for vulnerable populations. Discussions will address how to build a business case for private sector involvement in improving diet quality for vulnerable populations and how the public sector can support and incentivize that business case. Recommendations coming out of the meeting will help to inform USAID's future focus in this area.

The meeting will also include the announcement of the winners of the BIFAD Prize for Scientific Excellence and an update on a BIFAD-commissioned study on the U.S. benefits and capabilities leveraged of USAID investments in developing country agriculture and food security. Following an introduction by Dr. Rob Bertram, Chief Scientist, USAID Bureau for Food Security, a keynote address by Dr. Lawrence Haddad, Executive Director, Global Alliance for Improved Nutrition (GAIN), and framing remarks by Dr. William Masters, Professor, Friedman School of Nutrition Science and Policy at Tufts University, two panels will address: (1) Aspects of the enabling environment that can help accelerate private sector engagement in nutrition and (2) key drivers of private sector engagement to improve diet quality, including aspects of labeling, marketing, standards, and accountability systems. A public comment period is scheduled from 11:30 a.m.-2:00 p.m. CDT.

For questions about registration, please contact Devin Furguson at dferguson@aplu.org or (202) 478-6030. For questions about BIFAD, please contact Clara Cohen, Designated Federal Officer for BIFAD in the Bureau for Food Security at USAID. Interested persons may write to her in care of the U.S. Agency for International Development, Ronald Reagan Building, Bureau for Food Security, 1300 Pennsylvania Avenue NW, Washington, DC, 20523-2110 or telephone her at (202) 712-0119.

Clara Cohen,
Designated Federal Officer, Bureau for Food Security, U.S. Agency for International Development.

[FR Doc. 2018-20942 Filed 9-25-18; 8:45 am]

BILLING CODE P